DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: April 18, 2002.

Time(s) of Meeting: 0900-1700.

Place: Institute for Defense Analysis.

1. Agenda: The Integration and Analysis Panel of the Army Science Board FY02 Summer Study on “Ensuring the Financing Viability of the Objective Force” is holding a meeting on 18 April. The meeting will be held at IDA—4850 Mark Center Drive. The meeting will being at 0900 hours and will end at approximately 1700 hours. For further information, please contact Robert Dodd—757-788-5715 or email rdodd@aatd.eustis.army.mil

Wayne Joyner,
Program Support Specialist, Army Science Board.

[FR Doc. 02-9579 Filed 4-17-02; 8:45 am]

BILLING CODE 3710-08-M